DEPARTMENT OF COMMERCE

National Oceanic and Atmospheric Administration

50 CFR Part 660

[I.D. 030104B]

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 122nd meeting to consider and take actions on fishery management issues in the Western Pacific Region.

DATES: The meetings and public hearings will be held on March 22, March 23, 24, and 25, 2004. For specific times, see SUPPLEMENTARY INFORMATION.

ADDRESSES: All meetings and public hearings will be held at Hawaii Convention Center, Kalakaua Avenue, Honolulu, Hawaii, 96814; telephone (808)943-3500.

FOR FURTHER INFORMATION CONTACT: Kitty M. Simonds, Executive Director; telephone: (808)522-8220.

SUPPLEMENTARY INFORMATION: In addition to the agenda items listed below, the Council will hear recommendations from its Scientific and Statistical Committee, and other ad hoc groups. Public comment periods will be provided throughout the agenda. The order in which agenda items are addressed may change. The Council will meet as late as necessary to complete scheduled business.

Schedule and Agenda for Council Standing Committee Meetings

Monday, March 22, 2004

1. 7:30 a.m. to 9 a.m. Enforcement/Vessel Monitoring System (VMS)

2. 7:30 a.m. to 9 a.m. Fishery rights of indigenous people

3. 9 a.m. to 12 noon. International fisheries/pelagics

4. 9 a.m. to 12 noon. Bottomfish

5. 1:30 p.m. to 3 p.m. Ecosystem and habitat

6. 3 p.m. to 4:30 p.m. Crustaceans and precious corals

7. 4:30 p.m. to 6 p.m. Executive/budget and program

Schedule and Agenda for Public Hearings

Tuesday, March 23, 2004

11:45 a.m. Proposed regulatory amendment (final action) to Western Pacific Fishery Management Plans to allow fishermen the option of using NMFS approved electronic logbooks instead of paper logbooks.

Wednesday March 24, 2004

11:45 a.m. Initial action on a regulatory amendment to implement additional measures to conserve sea turtles and initial action to amend the Fishery Management Plan for the Pelagic Fisheries of the Western Pacific Region (Pelagics FMP) to revise the requirements for seabird mitigation when fishing north of 23° N′ lat. to include side setting as an alternative to one or more of the current suite of seabird mitigation measures.

Thursday, March 25, 2004

11:00 a.m. Preliminary options to manage the bottomfish fishery around the Commonwealth of the Northern Mariana Islands (CNMI). The agenda during the full Council meeting will include the items listed here.

For more information on public hearing items, see Background Information.

Schedule and Agenda for Council Meeting

Tuesday, March 23, 2004

9:00 a.m. and continue until business is completed.

1. Introductions

2. Approval of agenda

3. Approval of 119th, 120th, and 121st Meeting Minutes

4. Island reports of American Samoa, Guam, Hawaii and the CNMI

5. Reports from fishery agencies and organizations

A. Department of Commerce

a. NMFS

i. Pacific Islands Regional Office

ii. Pacific Islands Fisheries Science Center

b. NOAA General Counsel Southwest Region

c. National Ocean Service

B. Department of Interior - Fish and Wildlife Service (USFWS)

C. U.S. State Department

6. Enforcement/VMS

A. U.S. Coast Guard activities

B. NMFS activities

C. Enforcement activities of local agencies

D. Status of violations

E. National VMS program and policies

F. Electronic logbook amendment

7. Observer programs

A. Report on Northwestern Hawaiian Island (NWHI) Bottomfish program

B. Report on native observer program

8. Precious coral fisheries

A. Report on new beds in the NWHI

B. Additional research on Carijoa riisei

9. Crustacean fisheries

A. Status of lobster research: Update on Multi-FAN CL lobster model

10. Fishery rights of indigenous peoples

A. Community demonstration projects program (2nd solicitation)

B. Guam community monitoring program

C. Fishing knowledge education program

Tuesday, March, 23 2004

6:30 to 9:00 p.m. Fishers forum:

1) Federal fishery data collection requirements for Hawaii coral reef and bottomfish fisheries.

2) Solicitation of public comments on strategic plan for the Pacific Islands/Western Pacific Region.

Wednesday, March 24, 2004

8:30 a.m. and continue until business is completed.

11. Pelagics/international fisheries

A. American Samoa and Hawaii longline quarterly reports

a. Quarterly reports

b. Southern albacore catch per unit effort in 2003

B. Turtle management

a. Regulatory amendment to implement new technologies for the Pelagics FMP (including an SEIS)

b. Regulatory amendment to implement additional measures to conserve sea turtles (Action Item)

c. Post-hooking mortality workshop

d. Risk assessment seminar

e. New Biological Opinion on pelagic fisheries

f. Progress on turtle conservation projects

C. Discussion of squid and seabird SEIS

D. Seabird conservation

a. Consideration of side-setting as an option (Action Item)

E. Marlin management

F. Private fish aggregation devices

G. Shark management

H. Marine mammal management

I. International meetings

a. Bellagio Conference: Conservation and Sustainable Multilateral Management of Sea Turtles in the Pacific Ocean

b. 4th Interim Scientific Committee meeting

c. Inter-American Tropical Tuna Commission 4th Bycatch Working Group

d. Asia Region Seabird Bycatch Workshop

e. 24th Sea Turtle Symposium

f. Indian Ocean South East Asia Sea Turtle Conference

Thursday, March 25, 2004

8:30 a.m. and continue until business is completed.

12. Ecosystems and habitat

A. Report on the Coral Reef Fish Stock Assessment Workshop

B. NWHI sanctuary alternatives: rationale and criteria

C. Review of Council Marine Protected Area Policy

D. National Bycatch Implementation Plan

13. Bottomfish fisheries

A. Report on international deep-slope fishery workshop

B. Seamount groundfish moratorium (expires 8/04)

C. Report on Hawaii Undersea Research Laboratory project

D. Bottomfish Stock Assessment Workshop recommendations

E. Preliminary CNMI bottomfish management options (Action Item)

14. Program planning

A. Regulatory streamlining

B. Archipelago ecosystem-based management

C. Programmatic Environmental Impact Statement

D. Legislation

E. Pacific Islands/Western Pacific Strategic Plan

F. Programmatic grants report

G. Council Chairs' and Executive Director's meeting

H. Status of Hawaii $5 million disaster funds for Federal fisheries

I. Annual report

J. Federal fishery data collection

K. WPacFIN

15. Administrative matters

A. Financial reports

B. Administrative report

C. Meetings and workshops

D. Advisory group changes

16. Other Business

Background Information

1. Public Hearing on electronic logbook amendment (Action Item)

The Council will consider final action on a proposed regulatory amendment to Western Pacific Fishery Management Plans that would allow fishermen the option of using NMFS approved electronic logbook books instead of the Federal paper logbook forms that are now required. In its initial action, the Council recognized that the availability and capability of personal computers has increased to the point where using them to record fisheries dependent information can benefit Western Pacific fishery participants and NMFS. The benefits of electronic logbook forms include significant time savings for fishery participants, increased data accuracy, and time and money savings for NMFS.

The alternatives considered in the draft regulatory amendment range from maintaining the current regulations, to requiring the use electronic logbook forms and requiring their transmission via e-mail or satellite systems. In recognition of the fact that not all fishery participants may have technology or desire to use electronic logbooks, the preferred alternative would amend the five Fishery Management Plans of the Western Pacific to allow the optional use of electronic logbook forms, and the submission of such forms on non-paper media or transmitted via e-mail or satellite systems. This option would be available to current participants in those fisheries with Federal reporting requirements (meaning fisheries in which participants submit Federal logbooks directly to NMFS) as well as those future participants in fisheries that may become subject to Federal reporting.

2. Regulatory amendment to implement additional measures to conserve sea turtles (Action Item)

At its 121st meeting, the Council took action on long term measures to implement new technology to reduce and mitigate turtle-longline interactions in the Hawaii longline fishery. The Council took final action to recommend management measure to re-establish a limited (2,120 sets annually) Hawaii-based shallow-set fishery using new technologies (circle hooks, mackerel-type bait, and dehookers) to reduce and mitigate sea turtle interactions. However, several additional issues remain unresolved and will be considered by the Council at this meeting. These issues arise out of the fact that a recent Court order will vacate the existing sea turtle conservation regulations effective April 1, 2004. It is anticipated that the Council's recommended management regime for the Hawaii-based fishery will be implemented on that date, however existing measures for other fisheries will not be replaced without further Council action. These include: (1) A requirement that operators of general longline vessels annually attend protected species workshops and carry workshop completion certificates with them when fishing; (2) a requirement that operators of general longline vessels carry and use dip nets, line clippers, and bolt cutters (longline vessels with less than 3' freeboard such as alias would not have to carry dip nets or long handled line clippers) to release hooked or entangled sea turtles; (3) a requirement that vessels registered to general longline permits do not shallow-set north of the equator. The Council will also consider whether the current turtle handling requirements for operators of non-longline vessels using hooks to fish for pelagic species in EEZ waters should be supplemented with a requirement to remove trailing gear from hooked or entangled sea turtles. The Council may consider taking initial action at this meeting to amend the Pelagics FMP to include some or all of these additional measures.

3. Consideration of side-setting as an option (Action Item)

In November 2000, the USFWS issued a biological opinion (BiOp) which contained reasonable and prudent measures for minimizing interactions with albatross populations which nest in the NWHI. The BiOp recognized that the Hawaii-based longline fishery at that time comprised two segments, namely a deep-setting tuna-targeting segment, and a shallow-setting swordfish targeting segment. All longline vessels fishing above 23° N′ lat. were required to use thawed blue dyed bait and employ strategic offal discards when setting and hauling the longline. Vessels setting deep to catch tuna were also required to use a line setting machine with weighted branch lines. Vessels setting shallow to target swordfish were required to begin setting the longline at least 1 hour after local sunset and complete the setting process by local sunrise, using only the minimum vessel lights necessary. The Council amended the Pelagics FMP to require these measures and a final rule was published in May 2002. However, the final rule did not include a requirement for night setting due to an earlier closure of the swordfish segment of the Hawaii-based fishery in early 2001, under separate rule making in compliance with a March, 2001, BiOp issued by NMFS regarding sea turtles. The Council recently completed an amendment to the Pelagics FMP which will re-open the swordfish-targeting segment of the Hawaii longline fishery by April 2004, which includes the night setting requirement. During 2002 and 2003, additional seabird mitigation research field tests were conducted with underwater setting chutes, blue dyed bait and side setting. Side setting, as the term implies, means setting the longline from the side, rather than from the stern of the vessel. While all measures worked well, side setting was the only method which virtually reduced the interaction rate between longline and seabirds to zero. However, side setting is not included within the suite of measures required in the USFWS BiOp, nor in the regulations for the Hawaii-based fishery. The Council may therefore consider taking initial action at this meeting to amend the Pelagics FMP to revise the requirements for seabird mitigation when fishing north of 23° N′ lat. to allow side setting as an alternative to one or more of the current suite of seabird mitigation measure requirements.

4. Preliminary CNMI bottomfish management options (Action Item)

A public hearing will be held on preliminary options to manage the bottomfish fishery around the CNMI. Based on comments received during public scoping meetings held in CNMI, the Council developed preliminary options including limiting the harvest of bottomfish, reporting requirements, establishing area closures, gear and vessel restrictions, and other control measures as suggested by persons during the scoping meetings. At its 122nd meeting, the Council may take initial action to support a range of alternatives, including selection of a preliminary preferred alternative, to be considered in an amendment to be drafted by Council staff.

Although non-emergency issues not contained in this agenda may come before the Council for discussion, those issues may not be the subject of formal Council action during this meeting. Council action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808)522-8220 (voice) or (808)522-8226 (fax), at least 5 days prior to the meeting date.

Authority: 1801 et seq.

Dated: March 4, 2004.
Bruce C. Morehead,
Acting Director, Office of Sustainable Fisheries, National Marine Fisheries Service.

[FR Doc. 04-5291 Filed 3-9-04; 8:45 am]

BILLING CODE 3510-22-S